DEPARTMENT OF LABOR

Employment and Training Administration

[TA-W-52,025]

Dynamco, Inc., Roper Pump Company, Roper Industries, Inc., McKinney, TX; Amended Certification Regarding Eligibility To Apply for Worker Adjustment Assistance

In accordance with section 223 of the Trade Act of 1974 (19 U.S.C. 2273) the Department of Labor issued a Certification of Eligibility to Apply for Worker Adjustment Assistance on July 15, 2003, applicable to workers of Dynamco, Roper Pump Company, McKinney, Texas. The notice will be published soon in the Federal Register.

At the request of the State agency, the Department reviewed the certification for workers of the subject firm. The workers were engaged in the production of pneumatic valves and components.

New information shows that Roper Industries, Inc. is the parent firm of Dynamco, Inc. Workers separated from employment at the subject firm had their wages reported under a separate unemployment insurance (UI) tax account for Roper Industries, Inc.

Accordingly, the Department is amending the certification to properly reflect this matter.

The intent of the Department's certification is to include all workers of Dynamco, Inc., Roper Pump Company, Roper Industries, Inc., McKinney, Texas who were adversely affected by increased imports.

The amended notice applicable to TA-W-52,025 is hereby issued as follows:

All workers of Dynamco, Inc., Roper Pump Company, Roper Industries, Inc., McKinney, Texas, who became totally or partially separated from employment on or after June 11, 2002, through July 15, 2005, are eligible to apply for adjustment assistance under section 223 of the Trade Act of 1974.

Signed at Washington, DC, this 23rd day of July, 2003.
Richard Church,
Certifying Officer, Division of Trade Adjustment Assistance.

[FR Doc. 03-20098 Filed 8-6-03; 8:45 am]

BILLING CODE 4510-30-P